DEPARTMENT OF ENERGY

Federal Energy Regulatory Commission

[Project No. 13272-004]

Alaska Village Electric Cooperative, Inc.; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Minor Original License.

b. Project No.: 13272-004.

c. Date filed: November 1, 2013.

d. Applicant: Alaska Village Electric Cooperative, Inc (AVEC).

e. Name of Project: Old Harbor Hydroelectric Project.

f. Location: The project would be constructed on the East Fork of Mountain Creek, near the town of Old Harbor, Kodiak Island Borough, Alaska. Some project facilities would be located on approximately 7.74 acres of federal lands of the Kodiak National Wildlife Refuge.

g. Filed Pursuant to: Federal Power Act, 16 U.S.C. 791(a)-825(r).

h. Applicant Contact: Meera Kohler, President and CEO, AVEC, 4831 Eagle Street, Anchorage, AK 99503; Telephone (907) 561-1818.

i. FERC Contact: Adam Beeco, Telephone (202) 502-8655, and email adam.beeco@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13272-004.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed run-of-river project would consist of an intake, penstock, powerhouse, tailrace and constructed channel, access road and trail, and transmission line. Power from this project would be used by the residents of the city of Old Harbor.

Intake

The intake would consist of a concrete, or other suitable material, diversion/cut off weir with integral spillway that would divert water from the East Fork of Mountain Creek. The weir would range in height from approximately 4 feet at the spillway to 6 feet elsewhere and would span approximately 100 feet across the creek floodplain. A below grade transition with an above-ground air relief inlet pipe would convey water to a buried high-density polyethylene pipe and steel pipe penstock. Once constructed, the intake would fill to the level of the spillway and flow over the spillway when the water is higher.

Penstock

A 10,100-foot-long penstock consisting of an 18-inch-diameter polyethylene pipe, a 20-inch-diameter polyethylene pipe, and a 16-inch-diameter steel pipe would be installed. A total of 7,400 feet of polyethylene would be installed from the intake and 2,750 feet of steel pipe would be installed near the powerhouse. The entire pipe would be buried one to five feet underground.

Powerhouse

The powerhouse would consist of an approximately 30-foot by 35-foot by 16-foot high metal building or similar structure. The building would house two 262-kW Pelton turbines, a 480-volt, three-phase synchronous generator, and switchgear for each turbine.

Tailrace

The tailrace would be constructed with approximately 85 feet of steel, plastic, or concrete culvert. A man-made stream channel with a length of approximately 2,300 feet including approximately 500 feet would convey the project flows approximately 0.1 mile from the powerhouse to the nearby pond, known as Swimming Pond. The tailrace water would then travel 500 feet within Swimming Pond. The tailrace would continue on from Swimming Pond approximately 0.2 miles within an enhanced channel of Lagoon Creek Tributary. This enhanced channel would be constructed in place of the existing ephemeral section of Lagoon Creek Tributary. This section is approximately 1,100 feet and ends in a groundwater upwelling where Lagoon Creek Tributary becomes a distinct natural channel. Lagoon Creek Tributary flows into Lagoon Creek which then empties into a large, tidally influenced lagoon called Salt Lagoon. Salt Lagoon occupies about 82 acres and drains through a culvert into the Sitkalidak Strait.

Access Road and Trail

An approximately 2.2-mile-long by 10-foot-wide project access trail would be constructed between the intake and the powerhouse and an approximately 5,720-foot-long by 24-foot-wide powerhouse access road would extend from powerhouse to the existing community drinking water tank access road. To prevent increased traffic in the Kodiak National Wildlife Refuge, the intake access trail would be closed to non-project vehicular traffic. The powerhouse access road, however, would be open to public vehicles and public foot access.

Transmission Line

A 1.2-mile-long, 12.47-kV, three-phase overhead power line would be installed from the powerhouse to the existing power distribution system in Old Harbor.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission would consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application would be processed according to the following revised Hydro Licensing Schedule. Revisions to the schedule may be made as appropriate.

Milestone | Target date
Filing of recommendations, preliminary terms and conditions, and preliminary fishway prescriptions | July 2014.
Commission issues draft EA | January 2015.
Comments on draft EA | March 2015.
Commission issues EA | August 2015.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

r. Any qualified applicant desiring to file a competing application must submit to the Commission, on or before the specified intervention deadline date, a competing development application, or a notice of intent to file such an application. Submission of a timely notice of intent allows an interested person to file the competing development application no later than 120 days after the specified intervention deadline date. Applications for preliminary permits would not be accepted in response to this notice.

A notice of intent must specify the exact name, business address, and telephone number of the prospective applicant, and must include an unequivocal statement of intent to submit a development application. A notice of intent must be served on the applicant(s) named in this public notice.

Dated: June 10, 2014.
Kimberly D. Bose,
Secretary.

[FR Doc. 2014-14075 Filed 6-16-14; 8:45 am]

BILLING CODE 6717-01-P